DEPARTMENT OF TRANSPORTATION

Federal Aviation Administration

RTCA Special Committee 147: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held October 5, 2006 starting at 9 a.m.

ADDRESSES: The meeting will be held at RTCA, Inc., 1828 L St., NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 147 meeting. The agenda will include:

• October 5:

• Opening Session (Welcome and Introductory Remarks, Review/Approve meeting agenda for 63rd meeting, Review/Approve Summary of Previous Meeting).

• FAA TCAS II Program Office activities and charter.

• SC-147 Activity Reports.

• Surveillance Working Group: Review and resolution of Final Review and Comment (FRAC) comments, Hybrid Surveillance MOPS.

• Pending Plenary approval, forward comments to RTCA PMC for final consideration.

• Operations Working Group.

• Discussion and status of draft “TCAS Safety Bulletin” and draft letter to Flight Operations Departments.

• Discussion of proposed “Level of RA”.

• Requirements Working Group (RWG).

• Roadmap for potential FAA TCAS V7.1 rulemaking.

• Workplan for DO-185B development.

• Closing Session (Other Business, Future Actions/Activities, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 6, 2006.
Francisco Estrada C.,
RTCA Advisory Committee.

[FR Doc. 06-7634 Filed 9-13-06; 8:45 am]

BILLING CODE 4910-13-M